DEPARTMENT OF COMMERCE

International Trade Administration

[A-428-850, A-588-880, A-580-911, A-469-824]

Thermal Paper From Germany, Japan, the Republic of Korea, and Spain: Initiation of Less-Than-Fair-Value Investigations

AGENCY: Enforcement and Compliance, International Trade Administration, Department of Commerce.

DATES: Applicable October 27, 2020.

FOR FURTHER INFORMATION CONTACT: David Goldberger at (202) 482-4136 (Germany); Brittany Bauer at (202) 482-3860 (Japan); and Lilit Astvatsatrian at (202) 482-6412 (the Republic of Korea (Korea) and Spain); AD/CVD Operations, Enforcement and Compliance, International Trade Administration, U.S. Department of Commerce, 1401 Constitution Avenue NW, Washington, DC 20230.

SUPPLEMENTARY INFORMATION:

The Petitions

On October 7, 2020, the Department of Commerce (Commerce) received antidumping duty (AD) petitions concerning imports of thermal paper from Germany, Japan, Korea, and Spain filed in proper form on behalf of Appvion Operations, Inc. (Appvion) and Domtar Corporation (Domtar) (collectively, the petitioners), domestic producers of thermal paper.¹

¹ See Petitioners' Letter, “Petitions for the Imposition of Antidumping Duties on Imports of Thermal Paper from Germany, Japan, Korea, and Spain,” dated October 7, 2020 (the Petitions).

On October 13 and 20, 2020, Commerce requested supplemental information pertaining to certain aspects of the Petitions in separate supplemental questionnaires.² The petitioners filed responses to the supplemental questionnaires on October 16, 2020,³ and October 21, 2020.⁴

² See Commerce's Letter, “Petitions for the Imposition of Antidumping Duties on Imports of Thermal Paper from Germany, Japan, the Republic of Korea, and Spain: Supplemental Questions,” dated October 13, 2020 (General Issues Supplemental); see also country-specific supplemental questionnaires for Germany, Japan, Korea, and Spain, “Petition for the Imposition of Antidumping Duties on Imports of Thermal Paper from Germany: Supplemental Questions” (Germany AD Supplement), “Petition for the Imposition of Antidumping Duties on Thermal Paper from Japan: Supplemental Questions” (Japan AD Supplement), “Petition for the Imposition of Antidumping Duties on Thermal Paper from Korea: Supplemental Questions” (Korea AD Supplement), and “Petition for the Imposition of Antidumping Duties on Thermal Paper from Spain: Supplemental Questions” (Spain AD Supplement), dated October 13, 2020; and Memorandum, “Phone Call with Counsel to the Petitioners,” dated October 20, 2020.

³ See Petitioners' Letter, “Response of the Petitioners to Volumes I-V Supplemental Questionnaires: Thermal Paper from Germany, Japan, Korea, and Spain” dated October 16, 2020 (the Volume I response is hereinafter referred to as the General Issues Supplement).

⁴ See Petitioners' Letter, “Response of Petitioners to Volumes II and IV Second Supplemental Questionnaires: Thermal Paper from Germany and Korea,” dated October 21, 2020.

In accordance with section 732(b) of the Tariff Act of 1930, as amended (the Act), the petitioners allege that imports of thermal paper from Germany, Japan, Korea, and Spain are being, or are likely to be, sold in the United States at less than fair value (LTFV) within the meaning of section 731 of the Act, and that imports of such products are materially injuring, or threatening material injury to, the thermal paper industry in the United States. Consistent with section 732(b)(1) of the Act, the Petitions are accompanied by information reasonably available to the petitioners supporting their allegations.

Commerce finds that the petitioners filed the Petitions on behalf of the domestic industry, because the petitioners are interested parties, as defined in section 771(9)(C) of the Act. Commerce also finds that the petitioners demonstrated sufficient industry support for the initiation of the requested LTFV investigations.⁵

⁵ See infra, section on “Determination of Industry Support for the Petitions.”

Periods of Investigation

Because the Petitions were filed on October 7, 2020, the period of investigation (POI) for these LTFV investigations is October 1, 2019, through September 30, 2020, pursuant to 19 CFR 351.204(b)(1).⁶

⁶ See 19 CFR 351.204(b)(1).

Scope of the Investigations

The product covered by these investigations is thermal paper from Germany, Japan, Korea, and Spain. For a full description of the scope of these investigations, see the appendix to this notice.

Comments on the Scope of the Investigations

On October 13 and 14, 2020, Commerce requested information from the petitioners regarding the proposed scope to ensure that the scope language in the Petitions is an accurate reflection of the products for which the domestic industry is seeking relief.⁷ On October 16 20, 2020, the petitioners revised the scope.⁸ The description of merchandise covered by these investigations, as described in the appendix to this notice, reflects these clarifications.

⁷ See General Issues Supplemental; see also Memorandum, “Petitions for the Imposition of Antidumping Duties on Imports of Thermal Paper from Germany, Japan, the Republic of Korea, and Spain: Phone Call with Counsel to the Petitioners,” dated October 14, 2020.

⁸ See General Issues Supplement at Exhibit Supp I-2; see also Petitioners' Letter, “Thermal paper from Germany: Response to Koehler's Pre-Initiation Comments on Industry Support and Request for Polling,” dated October 20, 2020 (Petitioners Letter I) at 19 and Exhibit IS-11.

As discussed in the Preamble to Commerce's regulations, we are setting aside a period for interested parties to raise issues regarding product coverage (i.e., scope).⁹ Commerce will consider all comments received from interested parties and, if necessary, will consult with interested parties prior to the issuance of the preliminary determinations. If scope comments include factual information,¹⁰ all such factual information should be limited to public information. To facilitate preparation of its questionnaires, Commerce requests that all interested parties submit such comments by 5:00 p.m. Eastern Time (ET) on November 16, 2020, which is 20 calendar days from the signature date of this notice. Any rebuttal comments, which may include factual information, must be filed by 5:00 p.m. ET on November 27, 2020, which is the next business day after ten calendar days from the initial comment deadline.

⁹ See Antidumping Duties; Countervailing Duties, Final Rule, 62 FR 27296, 27323 (May 19, 1997) (Preamble).

¹⁰ See 19 CFR 351.102(b)(21) (defining “factual information”).

Commerce requests that any factual information that parties consider relevant to the scope of these investigations be submitted during this period. However, if a party subsequently finds that additional factual information pertaining to the scope of these investigations may be relevant, the party may contact Commerce and request permission to submit the additional information. All such submissions must be filed on the records of each of the concurrent LTFV investigations.

Filing Requirements

All submissions to Commerce must be filed electronically via Enforcement and Compliance's Antidumping Duty and Countervailing Duty Centralized Electronic Service System (ACCESS), unless an exception applies.¹¹ An electronically filed document must be received successfully in its entirety by the time and date on which it is due.

¹¹ See Antidumping and Countervailing Duty Proceedings: Electronic Filing Procedures; Administrative Protective Order Procedures, 76 FR 39263 (July 6, 2011); see also Enforcement and Compliance; Change of Electronic Filing System Name, 79 FR 69046 (November 20, 2014) for details of Commerce's electronic filing requirements, effective August 5, 2011. Information on help using ACCESS can be found at https://access.trade.gov/help.aspx and a handbook can be found at https://access.trade.gov/help/Handbook_on_Electronic_Filing_Procedures.pdf.

Comments on Product Characteristics

Commerce is providing interested parties an opportunity to comment on the appropriate physical characteristics of thermal paper to be reported in response to Commerce's AD questionnaires. This information will be used to identify the key physical characteristics of the subject merchandise in order to report the relevant costs of production accurately, as well as to develop appropriate product-comparison criteria.

Interested parties may provide any information or comments that they feel are relevant to the development of an accurate list of physical characteristics. Specifically, they may provide comments as to which characteristics are appropriate to use as: (1) General product characteristics; and (2) product comparison criteria. We note that it is not always appropriate to use all product characteristics as product comparison criteria. We base product comparison criteria on meaningful commercial differences among products. In other words, although there may be some physical product characteristics utilized by manufacturers to describe thermal paper it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5:00 p.m. ET on November 16, 2020, which is 20 calendar days from the signature date of this notice. Any rebuttal comments must be filed by 5:00 p.m. ET on November 27, 2020. All comments and submissions to Commerce must be filed electronically using ACCESS, as explained above, on the record of each of the LTFV investigations.

Determination of Industry Support for the Petitions

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹² they do so for different purposes and pursuant to a separate and distinct authority. In addition, Commerce's determination is subject to limitations of time and information. Although this may result in different definitions of the like product, such differences do not render the decision of either agency contrary to law.¹³

¹² See section 771(10) of the Act.

¹³ See USEC, Inc. v. United States, 132 F. Supp. 2d 1, 8 (CIT 2001) (citing Algoma Steel Corp., Ltd. v. United States, 688 F. Supp. 639, 644 (CIT 1988), aff'd 865 F. 2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigations.¹⁴ Based on our analysis of the information submitted on the record, we have determined that thermal paper, as defined in the scope, constitutes a single domestic like product, and we have analyzed industry support in terms of that domestic like product.¹⁵

¹⁴ See Volume I of the Petitions at 15-18; see also General Issues Supplement at 1 and Exhibit Supp. I-1.

¹⁵ For a discussion of the domestic like product analysis as applied to these cases and information regarding industry support, see country-specific AD Initiation Checklists at Attachment II, Analysis of Industry Support for the Antidumping Duty Petitions Covering Thermal Paper from Germany, Japan, the Republic of Korea, and Spain (Attachment II). These checklists are dated concurrently with, and hereby adopted by, this notice and on file electronically via ACCESS.

In determining whether the petitioners have standing under section 732(c)(4)(A) of the Act, we considered the industry support data contained in the Petitions with reference to the domestic like product as defined in the “Scope of the Investigations,” in the appendix to this notice. The petitioners provided letters of support from Kanzaki Specialty Papers Inc. (Kanzaki), a U.S. producer of thermal paper, and from the United Steel, Paper and Forestry, Rubber, Manufacturing, Energy, Allied Industrial, and Service Workers International Union, which represents workers at Domtar's facility in West Carrollton, OH, Appvion's facility in Appleton, WI, and Kanzaki's facility in Ware, MA.¹⁶ To establish industry support, the petitioners employed two methodologies—one based on production quantity, the other based on value-added. Under the quantity-based method, the petitioners provided their own 2019 production quantity of jumbo rolls, as well as the production quantity for Kanzaki, and compared this to the sum of the estimated total quantity of jumbo rolls produced in the United States and the estimated quantity of converted rolls produced in the United States from imported jumbo rolls in 2019.¹⁷ Under the value-added method, the petitioners provided their own 2019 total sales value of jumbo rolls, as well as the sales value for Kanzaki, and compared this to the sum of the estimated total value of jumbo rolls produced in the United States and the estimated total value added by U.S. converters of jumbo rolls in 2019.¹⁸ We relied on data provided by the petitioners for purposes of measuring industry support.¹⁹

¹⁶ See Volume I of the Petitions at 2, 5 and Exhibits I-5 and I-24; see also General Issues Supplement at 4 and Exhibit Supp. I-5.

¹⁷ See Volume I of the Petitions at 3-5 and Exhibits I-1, I-2, and I-4; see also General Issues Supplement at 3-5 and Exhibits Supp. I-5, Revised Exhibit I-1B and Revised Exhibit I-1C.

¹⁸ See Volume I of the Petitions at 3-5 and Exhibits I-1, I-2, and I-4; see also General Issues Supplement 3-5 and Exhibits Supp. I-4, Supp. I-5, Revised Exhibit I-1B, and Revised Exhibit I-1C.

¹⁹ See Volume I of the Petitions at 3-5 and Exhibits I-1, I-2, and I-4; see also General Issues Supplement 3-5 and Exhibits I-4, I-5, Revised Exhibit I-1B, and Revised Exhibit I-1C; and country-specific AD Initiation Checklists at Attachment II.

On October 16, 2020, we received comments on industry support from Papierfabrik August Koehler SE (Koehler), a German producer of thermal paper.²⁰ On October 20, 2020, the petitioners responded to Koehler's industry support comments.²¹

²⁰ See Koehler's Letter, “Thermal Paper from Germany: Koehler's Pre-Initiation Comments on Industry Support and Request for Polling,” dated October 16, 2020.

²¹ See Petitioners' Letter I.

Our review of the data provided in the Petitions, the General Issues Supplement, the Petitioners Letter I, and other information readily available to Commerce indicates that the petitioners have established industry support for the Petitions.²² First, the Petitions established support from domestic producers (or workers) accounting for more than 50 percent of the total production (by quantity or U.S. sales value) of the domestic like product and, as such, Commerce is not required to take further action in order to evaluate industry support (e.g., polling).²³ Second, the domestic producers (or workers) have met the statutory criteria for industry support under section 732(c)(4)(A)(i) of the Act because the domestic producers (or workers) who support the Petitions account for at least 25 percent of the total production (by quantity or U.S. sales value) of the domestic like product.²⁴ Finally, the domestic producers (or workers) have met the statutory criteria for industry support under section 732(c)(4)(A)(ii) of the Act because the domestic producers (or workers) who support the Petitions account for more than 50 percent of the production (by quantity or U.S. sales value) of the domestic like product produced by that portion of the industry expressing support for, or opposition to, the Petitions.²⁵ Accordingly, Commerce determines that the Petitions were filed on behalf of the domestic industry within the meaning of section 732(b)(1) of the Act.²⁶

²² See country-specific AD Initiation Checklists at Attachment II.

²³ Id.; see also section 732(c)(4)(D) of the Act.

²⁴ See country-specific AD Initiation Checklists at Attachment II.

²⁵ Id.

²⁶ Id.

Allegations and Evidence of Material Injury and Causation

The petitioners allege that the U.S. industry producing the domestic like product is being materially injured, or is threatened with material injury, by reason of the imports of the subject merchandise sold at LTFV. In addition, the petitioners allege that subject imports exceed the negligibility threshold provided for under section 771(24)(A) of the Act.²⁷

²⁷ See Volume I of the Petitions at 21 and Exhibit I-16.

The petitioners contend that the industry's injured condition is illustrated by a significant and increasing volume and market share of subject imports; underselling and price depression or suppression; lost sales and revenues, adverse impact on capacity, capacity utilization, and financial performance; and declines in production, U.S. shipments, and employment variables.²⁸ We assessed the allegations and supporting evidence regarding material injury, threat of material injury, causation, as well as negligibility, and we have determined that these allegations are properly supported by adequate evidence, and meet the statutory requirements for initiation.²⁹

²⁸ Id. at 19-31 and Exhibits I-16 through I-23; see also General Issues Supplement at 6 and Exhibits Supp. I-6 through Supp. I-8.

²⁹ See country-specific AD Initiation Checklists at Attachment III, Analysis of Allegations and Evidence of Material Injury and Causation for the Antidumping Duty Petitions Covering Thermal Paper from Germany, Japan, the Republic of Korea, and Spain (Attachment III).

Allegations of Sales at LTFV

The following is a description of the allegations of sales at LTFV upon which Commerce based its decision to initiate these LTFV investigations of imports of thermal paper from Germany, Japan, Korea, and Spain. The sources of data for the deductions and adjustments relating to U.S. price and normal value (NV) are discussed in greater detail in the country-specific AD Initiation Checklists.

U.S. Price

For Germany, Japan, Korea, and Spain, the petitioners based the export price (EP) on pricing information for sales of, or sales offers for, thermal paper produced in and exported from each country. The petitioners made certain adjustments to U.S. price to calculate a net ex-factory U.S. price.³⁰

³⁰ See country-specific AD Initiation Checklists.

Normal Value ³¹

³¹ In accordance with section 773(b)(2) of the Act, for these investigations, Commerce will request information necessary to calculate the constructed value and cost of production (COP) to determine whether there are reasonable grounds to believe or suspect that sales of the foreign like product have been made at prices that represent less than the COP of the product.

For Germany and Spain, the petitioners based NV on a home market price quote for thermal paper produced in and sold, or offered for sale, in each country within the applicable time period.³² For Germany, the information provided by the petitioners indicates that the home market price quoted is below the COP; therefore, the petitioners also calculated NV based on constructed value (CV).³³ For Japan and Korea, the petitioners stated they were unable to obtain home market or third country prices to use as a basis for NV and, therefore, the petitioners calculated NV based on CV.³⁴ For further discussion of CV, see the section “Normal Value Based on Constructed Value.”

³² See country-specific AD Initiation Checklists.

³³ See Germany AD Initiation Checklist.

³⁴ See Korea AD Initiation Checklist and Japan AD Initiation Checklist.

Normal Value Based on Constructed Value

As noted above, the information provided by the petitioners indicates that the price charged for thermal paper produced in and sold, or offered for sale, in Germany was below the COP. Accordingly, the petitioners also based NV for Germany on CV.³⁵ Additionally, for Japan and Korea, the petitioners were unable to obtain home market or third country prices and, therefore, based NV for Japan and Korea on CV.³⁶ Pursuant to section 773(e) of the Act, the petitioners calculated CV as the sum of the cost of manufacturing, selling, general, and administrative expenses, financial expenses, and profit.³⁷

³⁵ See Germany AD Initiation Checklist.

³⁶ See Korea AD Initiation Checklist and Japan AD Initiation Checklist.

³⁷ See country-specific AD Initiation Checklists.

Fair Value Comparisons

Based on the data provided by the petitioners, there is reason to believe that imports of thermal paper from Germany, Japan, Korea, and Spain are being, or are likely to be, sold in the United States at LTFV. Based on comparisons of EP to NV or CV in accordance with sections 772 and 773 of the Act, the estimated dumping margins for thermal paper for each of the countries covered by this initiation are as follows: (1) Germany—9.20 to 58.90 percent; (2) Korea—56.60 to 58.24 percent; (3) Japan—129.86 to 140.25 percent; and (4) Spain—32.68 to 41.45.³⁸

³⁸ Id.

Initiation of LTFV Investigations

Based upon our examination of the Petitions and supplemental responses, we find that they meet the requirements of section 732 of the Act. Therefore, we are initiating these LTFV investigations to determine whether imports of thermal paper from the Germany, Japan, Korea, and Spain are being, or are likely to be, sold in the United States at LTFV. In accordance with section 733(b)(1)(A) of the Act and 19 CFR 351.205(b)(1), unless postponed, we will make our preliminary determinations no later than 140 days after the date of this initiation.

Respondent Selection

In the Petitions, the petitioners named three companies in Germany, three companies in Japan, and four companies in Korea as producers and/or exporters of thermal paper.³⁹

³⁹ See Volume I of the Petitions at Exhibit I-9 through Exhibit I-12; see also Volume IV of the Petitions at 1-2.

Following standard practice in LTFV investigations involving market economy countries, in the event Commerce determines that the number of exporters or producers in any individual case is large such that Commerce cannot individually examine each company based upon its resources, where appropriate, Commerce intends to select mandatory respondents in that case based on U.S. Customs and Border Protection (CBP) data for U.S. imports under the appropriate Harmonized Tariff Schedule of the United States numbers listed in the “Scope of the Investigations,” in the appendix.

On October 20, October 21, and 23, 2020, Commerce released CBP data on imports of thermal paper from Korea, Germany, and Japan under Administrative Protective Order (APO) to all parties with access to information protected by APO and indicated that interested parties wishing to comment on the CBP data must do so within three business days of the publication date of the notice of initiation of these investigations.⁴⁰ Commerce will not accept rebuttal comments regarding the CBP data or respondent selection.

⁴⁰ See Memoranda, “Antidumping Duty Petition on Thermal Paper from the Republic of Korea: Release of Customs Data from U.S. Customs and Border Protection,” dated October 20, 2020; “Antidumping Duty Petition on Thermal Paper from Germany: Release of Customs Data from U.S. Customs and Border Protection,” dated October 21, 2020; and “Antidumping Duty Petition on Thermal Paper from Japan: Release of Customs Data from U.S. Customs and Border Protection,” dated October 23, 2020.

Interested parties must submit applications for disclosure under APO in accordance with 19 CFR 351.305(b). Instructions for filing such applications may be found on Commerce's website at https://enforcement.trade.gov/apo.

In the Petitions, the petitioners identified one company in Spain as a producer and/or exporter of thermal paper (i.e., Torraspapel, S.A.), and provided independent third-party information as support for the existence of only one producer/exporter in Spain.⁴¹ We currently know of no additional producers or exporters of thermal paper from Spain. Accordingly, Commerce intends to individually examine all known producers and exporters in the investigation of thermal paper from Spain (i.e., Torraspapel, S.A.).

⁴¹ See Volume I of the Petitions at Exhibit I-2 and Exhibit I-12.

Parties wishing to comment on respondent selection for Spain must do so within three business days of the publication of this notice in the Federal Register. Commerce will not accept rebuttal comments regarding respondent selection for Spain.

Comments on CBP data and respondent selection must be filed electronically using ACCESS. An electronically-filed document must be received successfully in its entirety via ACCESS by 5:00 p.m. ET on the specified deadline.

Distribution of Copies of the AD Petitions

In accordance with section 732(b)(3)(A) of the Act and 19 CFR 351.202(f), copies of the public version of the AD Petitions have been provided to the governments of Germany, Japan, Korea, and Spain via ACCESS. To the extent practicable, we will attempt to provide a copy of the public version of the AD Petitions to each exporter named in the AD Petitions, as provided under 19 CFR 351.203(c)(2).

ITC Notification

We will notify the ITC of our initiation, as required by section 732(d) of the Act.

Preliminary Determinations by the ITC

The ITC will preliminarily determine, within 45 days after the date on which the AD Petitions were filed, whether there is a reasonable indication that imports of thermal paper from Germany, Japan, Korea, and/or Spain are materially injuring, or threatening material injury to, a U.S. industry.⁴² A negative ITC determination for any country will result in the investigation being terminated with respect to that country.⁴³ Otherwise, the LTFV investigation will proceed according to statutory and regulatory time limits.

⁴² See section 733(a) of the Act.

⁴³ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴⁴ and, if the information is submitted to rebut, clarify, or correct factual information already on the record, to provide an explanation identifying the information already on the record that the factual information seeks to rebut, clarify, or correct.⁴⁵ Time limits for the submission of factual information are addressed in 19 CFR 351.301, which provides specific time limits based on the type of factual information being submitted. Interested parties should review the regulations prior to submitting factual information in these investigations.

⁴⁴ See 19 CFR 351.301(b).

⁴⁵ See 19 CFR 351.301(b)(2).

Particular Market Situation Allegation

Section 773(e) of the Act addresses the concept of a particular market situation (PMS) for purposes of CV, stating that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

Neither section 773(e) of the Act, nor 19 CFR 351.301(c)(2)(v), set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of a respondent's initial section D questionnaire response.

Extensions of Time Limits

Parties may request an extension of time limits before the expiration of a time limit established under 19 CFR 351.301, or as otherwise specified by Commerce. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for submissions which are due from multiple parties simultaneously. In such a case, we will inform parties in a letter or memorandum of the deadline (including a specified time) by which extension requests must be filed to be considered timely. An extension request must be made in a separate, stand-alone submission; under limited circumstances we will grant untimely-filed requests for the extension of time limits. Parties should review Extension of Time Limits; Final Rule, 78 FR 57790 (September 20, 2013), available at http://www.gpo.gov/fdsys/pkg/FR-2013-09-20/html/2013-22853.htm, prior to submitting extension requests in these investigations.

Certification Requirements

Any party submitting factual information in an AD or countervailing duty proceeding must certify to the accuracy and completeness of that information.⁴⁶ Parties must use the certification formats provided in 19 CFR 351.303(g).⁴⁷ Commerce intends to reject factual submissions if the submitting party does not comply with the applicable certification requirements.

⁴⁶ See section 782(b) of the Act.

⁴⁷ See Certification of Factual Information to Import Administration During Antidumping and Countervailing Duty Proceedings, 78 FR 42678 (July 17, 2013) (Final Rule). Answers to frequently asked questions regarding the Final Rule are available at http://enforcement.trade.gov/tlei/notices/factual_info_final_rule_FAQ_07172013.pdf.

Notification to Interested Parties

Interested parties must submit applications for disclosure under APO in accordance with 19 CFR 351.305. Parties wishing to participate in these investigations should ensure that they meet the requirements of 19 CFR 351.103(d) (e.g., by filing the required letter of). Note that Commerce has temporarily modified certain of its requirements for serving documents containing business proprietary information, until further notice.⁴⁸

⁴⁸ See Temporary Rule Modifying AD/CVD Service Requirements Due to COVID-19; Extension of Effective Period, 85 FR 41363 (July 10, 2020).

This notice is issued and published pursuant to sections 732(c)(2) and 777(i) of the Act, and 19 CFR 351.203(c).

Dated: October 27, 2020.
Jeffrey I. Kessler,
Assistant Secretary for Enforcement and Compliance.

Appendix

Scope of the Investigations

The scope of these investigations covers thermal paper in the form of “jumbo rolls” and certain “converted rolls.” The scope covers jumbo rolls and converted rolls of thermal paper with or without a base coat (typically made of clay, latex, and/or plastic pigments, and/or like materials) on one or both sides; with thermal active coating(s) (typically made of sensitizer, dye, and co-reactant, and/or like materials) on one or both sides; with or without a top coat (typically made of pigments, polyvinyl alcohol, and/or like materials), and without an adhesive backing. Jumbo rolls are defined as rolls with an actual width of 4.5 inches or more, an actual weight of 65 pounds or more, and an actual diameter of 20 inches or more (jumbo rolls). All jumbo rolls are included in the scope regardless of the basis weight of the paper. Also included in the scope are “converted rolls” with an actual width of less than 4.5 inches, and with an actual basis weight of 70 grams per square meter (gsm) or less.

The scope of these investigations covers thermal paper that is converted into rolls with an actual width of less than 4.5 inches and with an actual basis weight of 70 gsm or less in third countries from jumbo rolls produced in the subject countries.

The merchandise subject to these investigations may be classified in the Harmonized Tariff Schedule of the United States (HTSUS) under subheadings 4811.90.8030 and 4811.90.9030. Although HTSUS subheadings are provided for convenience and customs purposes, the written description of the scope of these investigations is dispositive.

[FR Doc. 2020-24333 Filed 11-2-20; 8:45 am]

BILLING CODE 3510-DS-P